DEPARTMENT OF THE INTERIOR

National Park Service

[N6669; NPS-WASO-NAGPRA-NPS0041408; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Human remains representing at least 52 individuals have been identified from unknown counties within the state of Florida. The 13 associated funerary objects are 13 lots consisting of ceramic vessels, vessel fragments, or other clay/ceramic items; faunal remains or faunal items; floral remains; lithics or stone items; ochre; shell or shell items. These ancestors and funerary objects were removed from the following sites: Mound; Burial Mound near “Salt Lakes”; Grave Mound(s) at unknown locations in Florida; and other unknown locations in Florida. Collectors included: Charles C. Jones Jr. (unknown date); Dr. D.R.S. Warren (1876); Dr. Jeffries Wyman as part of a PMAE Expedition (1860-1873); Dr. Samuel Kneeland (1872); Dr. Thomas Barbour (1889? 1921?); Mr. Ober (unknown date); Peabody Museum of Salem (unknown date); W.F. Clapp (unknown date); William B. Nickerson (unknown date); possibly Clarence Bloomfield Moore (unknown date); and unknown collectors (unknown dates). Donors included: William H. Claflin Jr. (1895); Boston Society of Natural History (1886); Dr. Jeffries Wyman as part of a PMAE Expeditions (1869, 1874); Dr. Samuel Kneeland (1878); Dr. Thomas Barbour (1921); Ober Collection (1879); Peabody Museum of Salem (1950); Frederick H. Ringe (1894); W.F. Clapp (1911); William B. Nickerson (c.1990); and unknown donors (unknown dates).

Cultural Affiliation

Based on the information available and the results of consultation, cultural affiliation is clearly identified by the information available about the human remains and associated funerary objects described in this notice.

Determinations

The PMAE has determined that:

• The human remains described in this notice represent the physical remains of 52 individuals of Native American ancestry.

• The 13 objects described in this notice are reasonably believed to have been placed intentionally with or near individual human remains at the time of death or later as part of the death rite or ceremony.

• There is a connection between the human remains and associated funerary objects described in this Notice and the Jena Band of Choctaw Indians; Miccosukee Tribe of Indians; Mississippi Band of Choctaw Indians; Seminole Tribe of Florida; The Choctaw Nation of Oklahoma; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 16, 2026. If competing requests for repatriation are received, the PMAE must determine the most appropriate requestor prior to repatriation. Requests for joint repatriation of the human remains and associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: November 25, 2025.
Melanie O'Brien,
Manager, National NAGPRA Program.

[FR Doc. 2025-23014 Filed 12-16-25; 8:45 am]

BILLING CODE 4312-52-P